DEPARTMENT OF DEFENSE

Department of the Army

Privacy Act of 1974; System of Records

AGENCY: Department of the Army, DoD.

ACTION: Notice to amend a system of records.

SUMMARY: The Department of the Army is amending a system of records notice in its existing inventory of records systems subject to the Privacy Act of 1974, (5 U.S.C. 552a), as amended. The amendment clarifies that information maintained in this system of records has been used to provide notification to as the emergency contact in the event of an emergency or death of the employee.

DATES: This proposed action would be effective without further notice on July 25, 2002 unless comments are received which result in a contrary determination.

ADDRESSES: Records Management Division, U.S. Army Records Management and Declassification Agency, ATTN: TAPC-PDD-RP, Stop 5603, 6000 6th Street, Ft. Belvoir, VA 22060-5603.

FOR FURTHER INFORMATION CONTACT: Ms. Janice Thornton at (703) 806-4390 or DSN 656-4390 or Ms. Christie King at (703) 806-3711 or DSN 656-3711.

SUPPLEMENTARY INFORMATION: The Department of the Army systems of records notices subject to the Privacy Act of 1974, (5 U.S.C. 552a), as amended, have been published in the Federal Register and are available from the address above.

The specific changes to the records system being amended are set forth below followed by the notice, as amended, published in its entirety. The proposed amendments are not within the purview of subsection (r) of the Privacy Act of 1974, (5 U.S.C. 552a), as amended, which requires the submission of a new or altered system report.

Dated: June 18, 2002.
Patricia L. Toppings,
Alternate OSD Federal Register Liaison Officer, Department of Defense.

A0690-200 TAPC

System name:

Department of the Army Civilian Personnel Systems (February 22, 1993, 58 FR 10002).

Changes:

* * * * *

Categories of individuals covered by the system:

Delete entry and replace with ‘Current and former Army civilian employees (appropriated and in some instances, non-appropriated funded employees), their dependents, foreign nationals, and military personnel who participate in the incentive awards and training programs.'

Categories of records in the system:

After ‘home address’ add ‘home telephone number or alternate number, emergency contact and next of kin information; beneficiary information;’

* * * * *

Purpose(s):

Add to the end of the entry ‘and in the event of an emergency or death of the employee to provide notification to the emergency contact.'

* * * * *

Storage:

Delete entry and replace with ‘Paper records in file folders and on electronic storage media.'

* * * * *

A0690-200 TAPC

System name:

Department of the Army Civilian Personnel Systems.

System location:

Office of Assistant G-1 for Civilian Personnel Policy, ATTN: DAPE-CP-PPD, 2461 Eisenhower Avenue, Alexandria, VA 22331-1300. Derivative Systems are maintained at commands, installations and activities dependent on the type of system maintained. Command-wide systems are the Civilian Personnel Accounting System at U.S. Army Military District of Washington, the U.S. Army Corps of Engineers Management Information System, and the Personnel Management Information System of U.S. Army Materiel Command. Official mailing addresses may be obtained from the Office of Assistant G-1 for Civilian Personnel Policy, ATTN: DAPE-CP-PPD, 2461 Eisenhower Avenue, Alexandria, VA 22331-1300.

Categories of individuals covered by the system:

Current and former Army civilian employees (appropriated and in some instances, non-appropriated funded employees), their dependents, foreign nationals, and military personnel who participate in the incentive awards and training programs.

Categories of records in the system:

This system is comprised of automated and non-automated personnel record, such as academic disciple; career program; citizenship; date of birth; educational level; employee tenure; Federal Employees Group Life Insurance; functional classification; name of employee; nature of action; occupational series; pay basis, pay plan, rate determinant; physical handicap; position occupied and tenure; military status; salary; service computation date; sex; Social Security Number; special program identifier; step or rate; submitting office number; training data, including costs, non-duty hours, on-duty hours, principal purpose, special interest program, date of completion; type of appointment; unit identification code; veterans preference; work schedule; organizational and position data, retention data; adverse action data; Fair Labor Standards Act coverage; cost of living allowances; transportation entitlement; cost codes; leave category; salary history; wage area; position sensitivity; security investigation data; security clearance and access data; performance/suggestion/cash awards; reemployment rights; training agreement; reserve status; vessel operations qualifications; Government driver’s license; food handler's permit; intern recruitment and training data; career management data including performance/potential ratings; employee evaluation; qualifications; achievements; dependent data; overseas sponsor information; state address; home address; home telephone number or alternate number, emergency contact and next of kin information; beneficiary information; leave data; foreign language code, mobilization designee tracking. Records are maintained for military personnel participating in department-wide incentive awards and training programs sponsored by operating civilian personnel offices.

Authority for maintenance of the system:

5 U.S.C. 301, Departmental Regulations; 10 U.S.C. 3013, Secretary of the Army; Army Regulation 690-200, General Personnel Provisions; and E.O. 9397 (SSN).

Purpose(s):

Information in this system is used by civilian personnel offices to screen qualifications of employees; determine status, eligibility, and employee's rights, and benefits under pertinent laws and regulations governing Federal employment; compute length of service; compile reports and statistical analyses of civilian work force strength trends, accounting, and composition; and to provide personnel services; and in the event of an emergency or death of the employee to provide notification to the emergency contact.

Routine uses of records maintained in the system, including categories of users and the purposes of such uses

In addition to those disclosures generally permitted under 5 U.S.C. 552a(b) of the Privacy Act, these records or information contained therein may specifically be disclosed outside the DoD as a routine use pursuant to 5 U.S.C. 552a(b)(3) as follows:

Department of Labor, Department of Veterans Affairs, Social Security Administration, or a national, State, county, municipal, or other publicly recognized charitable or income security administration agency (e.g., state unemployment compensation agencies), where necessary to adjudicate a claim under Office of Personnel Management's retirement, insurance, or health benefits program or to conduct an analytical study or audit of benefits being paid under such programs.

Office of Federal Employees Group Life Insurance, information necessary to verify election, declination, or waiver or regular and/or optional life insurance coverage or eligibility for payment of a claim for life insurance.

Health insurance carriers contracting with Office of Personnel Management to provide a health benefits plan under the Federal Employees Health Benefits Program, information necessary to identify enrollment in a plan, to verify eligibility for payment of a claim for health benefits, or to carry out the coordination or audit of benefit provisions of such contracts. Federal, State, or local agencies for determination of an individual's entitlement to benefits in connection with Federal Housing Administration programs.

Officials of labor organizations recognized under 5 U.S.C. Chapter 71 when relevant and necessary to their duties of exclusive representation concerning personnel policies, practices, and matters affecting working conditions.

Public and private organizations, including news media, which grant or publicize awards and/or honors, information on individuals considered/selected for incentive awards and other honors.

The DoD ‘Blanket Routine Uses’ set forth at the beginning of the Army's compilation of systems of records notices also apply to this system.

Policies and practices for storing, retrieving, accessing, retaining, and disposing of records in the system:

Storage:

Paper records in file folders and on electronic storage media.

Retrievability:

By Social Security Number and/or name.

Safeguards:

Computer facilities and terminals are located in restricted areas accessible only to authorized personnel who are properly screened, cleared, and trained. Manual records, microfilm/fiche, and computer printouts are stored in locked rooms or cabinets on military installations or in buildings secured by guards.

Retention and disposal:

These records are retained for varying periods of time. Generally, they are maintained for a minimum of 1 year or until the employee transfers or separates. They may also be retained indefinitely as a basis for longitudinal work history statistical studies.

System manager(s) and address:

Assistant G-1 for Civilian Personnel Policy, ATTN: DAPE-CP-PPD, 2461 Eisenhower Avenue, Alexandria, VA 22331-1300.

Notification procedure:

Individuals seeking to determine whether information about themselves is contained in this system should address written inquiries to the servicing civilian personnel office. Official mailing addresses may be obtained from the Office of Assistant G-1 for Civilian Personnel Policy, ATTN: DAPE-CP-PPD, 2461 Eisenhower Avenue, Alexandria, VA 22331-1300.

Written requests must contain the individual's full name, home address, Social Security Number, current or last dates of federal employment, date and place of birth, and must be signed by the individual.

Record access procedures:

Individuals seeking access to information about themselves contained in this system should address written inquiries to the servicing civilian personnel office. Official mailing addresses may be obtained from the Office of Assistant G-1 for Civilian Personnel Policy, ATTN: DAPE-CP-PPD, 2461 Eisenhower Avenue, Alexandria, VA 22331-1300.

Written requests must contain the individual's full name, home address, Social Security Number, current or last dates of federal employment, date and place of birth, and must be signed by the individual.

Contesting record procedures:

The Army's rules for accessing records, and for contesting contents and appealing initial agency determinations are contained in Army Regulation 340-21; 32 CFR part 505; or may be obtained from the system manager.

Record source categories:

From the individual and from the individual's official personnel file.

Exemptions claimed for the system:

None.

[FR Doc. 02-15915 Filed 6-24-02; 8:45 am]

BILLING CODE 5001-08-P